DEPARTMENT OF THE INTERIOR

Bureau of Land Management

[CA-360-1430-EU; CACA-42659]

Notice of Realty Action, Noncompetitive Sale of Public Land in Siskiyou County, California

AGENCY: Bureau of Land Management, Department of the Interior.

ACTION: Notice of segregation and sale of public land.

SUMMARY: The below described public land has been found suitable for direct sale under section 203 and 209 of the Federal Land Policy and Management Act of 1976 (90 Stat. 2750, 43 U.S.C. 1713), at not less than the estimated fair market value of $6,500.00. The land will not be offered for sale until at least 60 days after the date of this notice.

DATES: Submit comments on or before August 2, 2002.

FOR FURTHER INFORMATION CONTACT: Susie Rodriguez, Redding Field Office, 355 Hemsted Drive, Redding, CA, 96002; 530-224-2142.

SUPPLEMENTARY INFORMATION: The following public land has been found suitable for direct sale under section 203 and 209 of the Federal Land Policy and Management Act of 1976 (90 Stat. 2750, 43 U.S.C. 1713), at not less than the estimated fair market value of $6,500.00. The land will not be offered for sale until at least 60 days after the date of this notice.

Mount Diablo Meridian

T. 43 N., R.10 W.,

Section 11, Lot 12.

The land described contains 5.81 acres.

The land described is hereby segregated from appropriation under the public land laws, including the mining laws, pending disposition of this action or 270 days from the date of publication of this notice, whichever occurs first.

This land is being offered by direct sale to Richard Dews, consistent with 43 CFR 2711.3-3(a)(1). It has been determined that the parcel contains no mineral values; therefore, mineral interests may be conveyed simultaneously. The lands are not needed for Federal purposes. Conveyance is consistent with current BLM land use planning and would be in the public interest. The patent, when issued, will contain certain reservations to the United States and will be subject to all existing rights. Detailed information concerning these reservations as well as specific conditions of the sale are available for review at the Redding Field Office, Bureau of Land Management, 355 Hemsted Drive, Redding, California 96002.

For a period of 45 days from the date of publication of this notice in the Federal Register, interested persons may submit written comments regarding the proposed sale to Charles M. Schultz, Field Office Manager, Redding Field Office, Bureau of Land Management, 355 Hemsted Dr., Redding, CA 96002. In the absence of timely objections, this proposal shall become the final determination of the Department of the Interior.

Dated: June 7, 2002.
Howard K. Stark,
Chief, Branch of Lands.

[FR Doc. 02-15315 Filed 6-17-02; 8:45 am]

BILLING CODE 4310-40-P